DEPARTMENT OF AGRICULTURE

Natural Resources Conservation Service

Notice of Meeting of the Agricultural Air Quality Task Force

AGENCY: Natural Resources Conservation Service (NRCS).

ACTION: Notice of meeting.

SUMMARY: The Agricultural Air Quality Task Force (AAQTF) will meet to continue discussions on critical air quality issues relating to agriculture. Special emphasis will be placed on obtaining a greater understanding about the relationship between agricultural production and air quality. The meeting is open to the public; a draft agenda is included in this notice.

DATES: The meeting will convene at 8 a.m. on Wednesday and Thursday, September 21-22, 2011, and conclude at 5 p.m. on Wednesday and 4 p.m. on Thursday, respectively. A public comment period will be held. Individuals making oral presentations should contact Elvis L. Graves and bring 26 copies of any material they would like distributed. Written material for AAQTF to be considered prior to the meeting must be received by Elvis Graves (address given below) no later than September 9, 2011.

ADDRESSES: The meeting will be held on the campus of Kansas State University, Alumni Center, located at the corner of 17th and Anderson Avenue, Manhattan, Kansas.

FOR FURTHER INFORMATION CONTACT: Questions and comments should be directed to Elvis L. Graves, Designated Federal Official. Mr. Graves may be contacted at NRCS, Post Office Box 2890, Washington, DC 20013; telephone: (202) 720-1858; fax: (202) 720-2646; e-mail: elvis.graves@wdc.usda.gov.

SUPPLEMENTARY INFORMATION: Notice of this meeting is given under the Federal Advisory Committee Act, 5 U.S.C. App. 2. Additional information concerning AAQTF, including revised agendas for the September 21-22, 2011, meeting that occurs after this Federal Register Notice is published, may be viewed at: http://www.airquality.nrcs.usda.gov/AAQTF/index.html.

Draft Agenda for the September 21-22, 2011, AAQTF Meeting

A. Welcome to Manhattan, Kansas

• USDA, NRCS, University, and local officials

B. Review minutes and actions from last meeting

C. USDA and Environmental Protection Agency Updates

D. Air Quality Issues/Concerns Discussions

• Continued discussion of goals for AAQTF

• Committee Updates

E. Next Meeting, time/place

• Public Input (Designated times will be reserved to receive public comment. Individual presentations will be limited to 5 minutes).

*Please note that the timing of events in the agenda is subject to change to accommodate changing schedules of expected speakers.

Procedural

This meeting is open to the public. At the discretion of the Chair, members of the public may make oral presentations during the meeting. Those persons wishing to make oral presentations should notify Elvis L. Graves no later than September 9, 2011. Those wishing to distribute written materials at the meeting (in conjunction with spoken comments) must bring 26 copies of the materials. Written materials for distribution to AAQTF members prior to the meeting must be received by Mr. Graves no later than September 9, 2011.

Information on Services for Individuals With Disabilities

For information on facilities or services for individuals with disabilities or to request special assistance at the meeting, please contact Elvis L. Graves. USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact USDA's Target Center at (202) 720-2000 (voice and TDD).

Signed in Washington, DC, on August 15, 2011.
Dave White,
Chief, Natural Resources Conservation Service.

[FR Doc. 2011-21589 Filed 8-23-11; 8:45 am]

BILLING CODE 3410-16-P